DEPARTMENT OF COMMERCE

National Oceanic and Atmospheric Administration

[RTID 0648-XX029]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an exempted fishing permit application contains all of the required information and warrants further consideration. This permit would allow Coonamessett Farm Foundation to test the selectivity of alternate gillnet configurations to target haddock while reducing catch of other groundfish species. Regulations under the Magnuson-Stevens Fishery Conservation and Management Act require publication of this notification to provide interested parties the opportunity to comment on applications for proposed exempted fishing permits.

DATES: Comments must be received on or before December 27, 2019.

ADDRESSES: You may submit written comments by any of the following methods:

• Email: NMFS.GAR.EFP@noaa.gov. Include in the subject line “Comments on Testing Selectivity and Raised Webbing Gillnets on Target and Non-Target Species in the Northeast Haddock Fishery.”

• Mail: Michael Pentony, Regional Administrator, NMFS, Greater Atlantic Regional Fisheries Office, 55 Great Republic Drive, Gloucester, MA 01930. Mark the outside of the envelope “Comments on Testing Selectivity of Alternative Gillnet Configurations in the Northeast Haddock Fishery.”

FOR FURTHER INFORMATION CONTACT: Kyle Molton, Fishery Management Specialist, 978-281-9236, Kyle.Molton@noaa.gov.

SUPPLEMENTARY INFORMATION: Coonamessett Farm Foundation (CFF) submitted a complete application for an exempted fishing permit (EFP) on October 28, 2019, to conduct commercial fishing activities that the regulations would otherwise restrict. The application is a renewal of an EFP originally issued in December 2017 and renewed in March 2019. The original EFP allowed up to 24 trips (with a target of 24 days-at-sea); to date vessels have fished 10 days-at-sea. The EFP would authorize four vessels to test alternative gillnet configurations for haddock and to temporarily retain undersized catch for measurement and data collection. The applicant has requested exemptions from minimum mesh size regulations at 50 CFR 648.80(a)(4)(iv) and § 648.8(b)(2)(iv), and the prohibition on possessing groundfish below the minimum size § 648.83(a). These exemptions are necessary because vessels on commercial groundfish trips are prohibited from using gillnets with mesh size less than 6.5 inches (16.51 cm) and from retaining undersized groundfish. The applicant is also requesting an exemption from the Closed Area I North Georges Bank Spawning Groundfish Closure at § 648.81(c)(3), which NOAA Fisheries does not intend to approve, as further described below.

The project titled “Testing Selectivity and Raised Webbing Gillnets on Target and Non-Target Species in the Northeast Haddock Fishery” would continue to be conducted by CFF. The study would take place on Georges Bank and in southern New England from January 2020 through August 2020, with the 4 participating vessels fishing no more than 14 days-at-sea total. Vessels would fish a maximum of 20 gillnets, each 300 feet (91.44 m) long, in strings made up of 10 to 20 nets each. Nets would alternate between standard 6.5-inch (16.51-cm) mesh and 6.0-inch (15.24-cm) mesh. Half of the nets of each mesh size would be rigged with a 30-inch (76.2-cm) raised webbing section along the bottom. Two to three hauls of the nets are expected during each day at sea with an average soak time of 6 to 8 hours for each set.

A CFF researcher or technician would accompany all trips that occur under this EFP to identify and count all fish caught, as well as measure and weigh cod and haddock. Individual fish of other species would also be measured and weighed if time allows. Undersized fish would be discarded as quickly as possible after sampling. All Northeast multispecies of legal size would be landed, and all catch (including discards) would be attributed to the vessel's sector annual catch entitlement, consistent with standard catch accounting procedures. Participating vessels would comply with all protected species regulations, and would not be able to set gillnets in areas otherwise closed to fishing with gillnet gear.

Under a recent court order, NOAA Fisheries is barred from allowing gillnet fishing in the former Nantucket Lightship and Closed Area I Groundfish Closure Areas. Accordingly, we can not approve, nor will we consider, the applicant's request to allow access to the seasonal Closed Area I North Georges Bank Spawning Groundfish Closure, which falls entirely within the footprint of former Closed Area I. CFF had requested this exemption previously, but the request was denied because of potential negative impacts to spawning groundfish.

If approved, the applicant may request minor modifications and extensions to the EFP throughout the year. EFP modifications and extensions may be granted without further notice if they are deemed essential to facilitate completion of the proposed research and have minimal impacts that do not change the scope or impact of the initially approved EFP request.

Authority: 16 U.S.C. 1801 et seq.

Dated: December 6, 2019.
Alan D. Risenhoover,
Director, Office of Sustainable Fisheries, National Marine Fisheries Service.

[FR Doc. 2019-26693 Filed 12-11-19; 8:45 am]

BILLING CODE 3510-22-P